DEPARTMENT OF ENERGY

Federal Energy Regulatory Commission

Combined Notice of Filings #2

Take notice that the Commission received the following electric corporate filings:

Docket Numbers: EC13-113-000.

Applicants: NV Energy, Inc., Sierra Pacific Power Company, Nevada Power Company.

Description: Application for Approval of Internal Reorganization Under Section 203 of the Federal Power Act of NV Energy, Inc., et al.

Filed Date: 5/31/13.

Accession Number: 20130531-5304.

Comments Due: 5 p.m. ET 7/30/13.

Docket Numbers: EC13-114-000.

Applicants: Southern California Edison Company.

Description: Southern California Edison Company Application—West of Devers.

Filed Date: 5/31/13.

Accession Number: 20130531-5390.

Comments Due: 5 p.m. ET 6/21/13.

Take notice that the Commission received the following electric rate filings:

Docket Numbers: ER13-1440-001.

Applicants: Electricity MASS, LLC.

Description: Electricity MASS, LLC FERC Tariff to be effective 5/9/2013.

Filed Date: 6/3/13.

Accession Number: 20130603-5070.

Comments Due: 5 p.m. ET 6/24/13.

Docket Numbers: ER13-1624-000.

Applicants: PJM Interconnection, L.L.C.

Description: Queue Position V1-024/V1-025; Original Service Agreement No. 3566 to be effective 5/3/2013.

Filed Date: 6/3/13.

Accession Number: 20130603-5046.

Comments Due: 5 p.m. ET 6/24/13.

Docket Numbers: ER13-1625-000.

Applicants: PJM Interconnection, L.L.C.

Description: Queue Position Y2-098; Original Service Agreement No. 3568 to be effective 5/3/2013.

Filed Date: 6/3/13.

Accession Number: 20130603-5054.

Comments Due: 5 p.m. ET 6/24/13.

Docket Numbers: ER13-1626-000.

Applicants: PJM Interconnection, L.L.C.

Description: Notice of Cancellation of SA No. 3256 in Docket No. ER12-1288-000 to be effective 5/3/2013.

Filed Date: 6/3/13.

Accession Number: 20130603-5057.

Comments Due: 5 p.m. ET 6/24/13.

Docket Numbers: ER13-1627-000.

Applicants: Portland General Electric Company.

Description: GTA Agreement PGE and BPA Update to be effective 7/1/2013.

Filed Date: 6/3/13.

Accession Number: 20130603-5069.

Comments Due: 5 p.m. ET 6/24/13.

Docket Numbers: ER13-1628-000.

Applicants: PJM Interconnection, L.L.C.

Description: Queue Position #Y2-074—Original Service Agreement No. 3567 to be effective 5/3/2013.

Filed Date: 6/3/13.

Accession Number: 20130603-5071.

Comments Due: 5 p.m. ET 6/24/13.

Docket Numbers: ER13-1629-000.

Applicants: Southwest Power Pool, Inc.

Description: Submission of Notice of Cancellation of Rock Creek Wind Project Large Generator Interconnection Agreement of Southwest Power Pool, Inc.

Filed Date: 6/3/13.

Accession Number: 20130603-5095.

Comments Due: 5 p.m. ET 6/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2013.
Nathaniel J. Davis, Sr.,
Deputy Secretary.

[FR Doc. 2013-13646 Filed 6-7-13; 8:45 am]

BILLING CODE 6717-01-P